DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Performance Partnership Grants (PPGs) Pilot Study for Performance Measures for Treatment of Co-occurring Dis­orders—New—SAMHSA's Center for Mental Health Services and Center for Substance Abuse Treatment will conduct a pilot study to examine the feasibility of collecting performance measures for treatment of co-occurring disorders. The pilot project will be conducted over a one-year period concluding at the close of 2005. Seven States with Co-occurring State Infrastructure Grants, and four additional non-grant States, together with multiple local sites within each of these States, will participate in the pilot project. Current data systems in each of the eleven States were reviewed in the first half of 2004, and actual data will be collected for the first two quarters of 2005. The balance of 2005 will be used for data analysis and report preparation, with recommendations for future steps.

Information will be collected about three performance areas: the number and percent of programs that offer screening, assessment, and treatment services for co-occurring disorders; the number of clients actually screened, assessed, and treated through these programs; and the effects of this care on client outcomes: reduction in symptoms and improved functioning, as well as better quality of life in the community.

If demonstrated to be feasible, these measures will subsequently be incorporated into the proposed set of performance measures for the mental health and substance abuse Performance Partnership Grants (PPGs). PPGs will be the next generation of block grants to be funded by SAMHSA, in which States will be granted additional program flexibility in return for reporting system performance measures.

Annual burden for the activities is shown below:

Activity | Number of respondents | Responses per respondent | Hours per response | Total burden hours
Measure 1: State-level performance measures | 730 | 2 | 0.45 | 650
Measure 2: Capacity to screen, assess, and treat | 350 | 2 | 1.25 | 880
Measure 3: Outcomes | 1,050 | 2 | 0.67 | 1,420
Total | 2,130 |  |  | 2,950

Send comments to Summer King, SAMHSA Reports Clearance Officer, OAS, Room 7-1044, 1 Choke Cherry Road, Rockville, MD 20857. Written comments should be received by November 15, 2004.

Dated: September 8, 2004.
Anna Marsh,
Executive Officer, SAMHSA.

[FR Doc. 04-20687 Filed 9-13-04; 8:45 am]

BILLING CODE 4162-20-P